DEPARTMENT OF COMMERCE

International Trade Administration

[A-583-831]

Stainless Steel Sheet and Strip in Coils From Taiwan: Final Results of Antidumping Duty Administrative Review, and Final Determination of No Shipments; 2023-2024

AGENCY: Enforcement and Compliance, International Trade Administration, Department of Commerce.

SUMMARY: The U.S. Department of Commerce (Commerce) determines that stainless steel sheet and strip in coils (SSSSC) from Taiwan was sold in the United States at less than normal value during the period of review (POR) July 1, 2023, through June 30, 2024. Commerce also determines that Yieh United Steel Company (YUSCO) had no shipments to the United States during the POR.

DATES: Applicable January 15, 2026.

FOR FURTHER INFORMATION CONTACT: Christopher Maciuba, AD/CVD Operations, Enforcement and Compliance, International Trade Administration, Department of Commerce, 1401 Constitution Avenue NW, Washington, DC 20230; telephone: (202) 482-0413.

SUPPLEMENTARY INFORMATION:

Background

On July 7, 2025, Commerce published the Preliminary Results and invited interested parties to comment.¹ No interested party submitted comments on the Preliminary Results. Commerce made no changes from the Preliminary Results, which are herein adopted as the final results of review. Additionally, because these final results remain unchanged from the Preliminary Results, no memorandum accompanies this notice. Commerce conducted this review in accordance with section 751 of the Tariff Act of 1930, as amended (the Act).

¹ See Stainless Steel Sheet and Strip in Coils from Taiwan: Preliminary Results and Rescission of Antidumping Duty Administrative Review, in Part, and Preliminary Determination of No Shipments; 2023-2024, 90 FR 29840 (July 7, 2025) (Preliminary Results), and accompanying Preliminary Decision Memorandum (PDM).

Scope of the Order ²

² See Notice of Antidumping Duty Order; Stainless Steel Sheet and Strip in Coils from United Kingdom, Taiwan, and South Korea, 64 FR 40555 (July 27, 1999) (Order).

The merchandise covered by the Order is SSSSC from Taiwan. For a complete description of the scope of the Order, see the Preliminary Results PDM.

Final Determination of No Shipments

In the Preliminary Results, Commerce determined that YUSCO did not have suspended entries of subject merchandise during the POR.³ No parties commented on Commerce's preliminary no-shipment determination. Therefore, for these final results, we continue to determine that YUSCO had no shipments of subject merchandise during the POR.

³ See Preliminary Results, 90 FR at 29841.

Final Results of Review

We determine that the following weighted-average dumping margins exist for the POR, July 1, 2023, through June 30, 2024:

Exporter/producer | Weighted- average dumping margin (percent)
Shiner Steel International Ltd | 21.10
Yuan Long Stainless Steel Ltd | 21.10

Disclosure

Because we made no changes to the calculations performed in connection with the Preliminary Results, there are no new calculations to disclose in accordance with 19 CFR 351.224(b) for these final results.

Assessment Rates

Pursuant to section 751(a)(2)(A) of the Act and 19 CFR 351.212(b)(1), Commerce will determine and CBP shall assess, antidumping duties on all appropriate entries covered by this review. For these final results, we will instruct CBP to apply an ad valorem assessment rate equal to the dumping margins shown above to all entries of subject merchandise during the POR which were produced and/or exported by Shiner Steel and Yuan Long.

For YUSCO we will instruct CBP to liquidate any existing entries of merchandise produced by YUSCO but exported by other parties at the rate of the intermediate reseller, if available, or at the all-others rate.⁴

⁴ For a full discussion of this practice, see Antidumping and Countervailing Duty Proceedings: Assessment of Antidumping Duties, 68 FR 23954 (May 6, 2003).

Commerce intends to issue appropriate assessment instructions to CBP no earlier than 35 days after the date of publication of the final results of this review in the Federal Register. If a timely summon is filed at the U.S. Court of International Trade, the assessment instructions will direct CBP not to liquidate relevant entries until the time for parties to file a request for a statutory injunction has expired (i.e., within 90 days of publication).⁵

⁵ See Notice of Discontinuation of Policy to Issue Liquidation Instructions After 15 Days in Applicable Antidumping and Countervailing Duty Administrative Proceedings, 86 FR 3995 (January 15, 2021).

Cash Deposit Requirements

The following cash deposit requirements will be effective for all shipments of the subject merchandise entered, or withdrawn from warehouse, for consumption on or after the publication date of the final results of this administrative review, as provided by section 751(a)(2)(C) of the Act: (1) the cash deposit rate for each company listed above will be that established in the final results of this review; (2) for previously reviewed or investigated companies not participating in this review, the cash deposit rate will continue to be the company-specific rate published for the most recently-completed segment of this proceeding in which the company was reviewed; (3) if the exporter is not a firm covered in this review, or a previous segment, but the producer is, then the cash deposit rate will be the rate established for the most recently completed segment for the producer of the merchandise; and (4) the cash deposit rate for all other producers or exporters will continue to be 12.61 percent, the all-others rate established in the less-than-fair-value investigation.⁶

⁶ See Order.

These cash deposit requirements, when imposed, shall remain in effect until further notice.

Notification to Importers

The notice serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Administrative Protective Order

This notice also serves as a final reminder to parties subject to an administrative protective order (APO) of their responsibility concerning the disposition of proprietary information disclosed under APO in accordance with 19 CFR 351.305(a)(3), which continues to govern business proprietary information in this segment of the proceeding. Timely written notification of the return/destruction of APO materials, or conversion to judicial protective order, is hereby requested. Failure to comply with the regulations and terms of an APO is a violation which is subject to sanction.

Notification to Interested Parties

We are issuing and publishing this notice in accordance with sections 751(a)(1) and 777(i) of the Act, and 19 CFR 351.221(b)(5).

Dated: January 12, 2026.
Christopher Abbott,
Deputy Assistant Secretary for Policy and Negotiations, performing the non-exclusive functions and duties of the Assistant Secretary for Enforcement and Compliance.

[FR Doc. 2026-00742 Filed 1-14-26; 8:45 am]

BILLING CODE 3510-DS-P